DEPARTMENT OF THE INTERIOR

Office of Surface Mining Reclamation and Enforcement

30 CFR Part 936

[SATS No. OK-037-FOR; Docket ID: OSM-2015-0006; S1D1S SS08011000 SX064A000 167S180110; S2D2S SS08011000 SX064A000 16XS501520]

Oklahoma Regulatory Program

AGENCY: Office of Surface Mining Reclamation and Enforcement, Interior.

ACTION: Proposed rule; public comment period and opportunity for public hearing on proposed amendment.

SUMMARY: We, the Office of Surface Mining Reclamation and Enforcement (OSMRE), are announcing receipt of a proposed amendment to the Oklahoma regulatory program (Oklahoma program) under the Surface Mining Control and Reclamation Act of 1977 (SMCRA or the Act). Oklahoma proposes revisions to its regulations regarding: Permit eligibility for permits with violations on lands eligible for remining; permit suspension or rescission posting locations and appeal procedures; requiring GPS coordinates for aspects of permit maps; topsoil removal distances; blasting records requirements; annual reporting requirements; temporary cessation of operations requirements; casing and sealing temporary underground openings; right of entry requirements; surface drainage associated with auger mining; correcting reference errors; updating addresses; and correcting spelling and grammatical errors. Oklahoma intends to revise its program to be no less effective than the Federal regulations and to improve operational efficiency.

This document gives the times and locations that the Oklahoma program and this proposed amendment to that program are available for your inspection, the comment period during which you may submit written comments on the amendment, and the procedures that we will follow for the public hearing, if one is requested.

DATES: We will accept written comments on this amendment until 4:00 p.m., central time, March 9, 2016. If requested, we will hold a public hearing on the amendment on March 4, 2016. We will accept requests to speak at a hearing until 4:00 p.m., central time on February 23, 2016.

ADDRESSES: You may submit comments, identified by SATS No. OK-037-FOR, by any of the following methods:

• Mail/Hand Delivery: Director, Tulsa Field Office, Office of Surface Mining Reclamation and Enforcement, 1645 South 101st East Avenue, Suite 145, Tulsa, Oklahoma 74128-4629.

• Fax: (918) 581-6419.

• Federal eRulemaking Portal: The amendment has been assigned Docket ID OSM-2015-0006. If you would like to submit comments go to http://www.regulations.gov. Follow the instructions for submitting comments.

Instructions: All submissions received must include the agency name and docket number for this rulemaking. For detailed instructions on submitting comments and additional information on the rulemaking process, see the “Public Comment Procedures” heading of the SUPPLEMENTARY INFORMATION section of this document.

Docket: For access to the docket to review copies of the Oklahoma program, this amendment, a listing of any scheduled public hearings, and all written comments received in response to this document, you must go to the address listed below during normal business hours, Monday through Friday, excluding holidays. You may receive one free copy of the amendment by contacting OSMRE's Tulsa Field Office or the full text of the program amendment is available for you to read at www.regulations.gov.

Elaine Ramsey, Director, Tulsa Field Office, Office of Surface Mining Reclamation and Enforcement, 1645 South 101st East Avenue, Suite 145, Tulsa, Oklahoma 74128-4629.

Telephone: (918) 581-6430.

Email: eramsey@osmre.gov.

In addition, you may review a copy of the amendment during regular business hours at the following location: Oklahoma Department of Mines, 2915 N. Classen Blvd., Suite 213, Oklahoma City, Oklahoma 73106-5406. Telephone: (405) 427-3859.

FOR FURTHER INFORMATION CONTACT: Elaine Ramsey, Director, Tulsa Field Office. Telephone: (918) 581-6430.

SUPPLEMENTARY INFORMATION:

I. Background on the Oklahoma Program

II. Description of the Proposed Amendment

III. Public Comment Procedures

IV. Procedural Determinations

I. Background on the Oklahoma Program

Section 503(a) of the Act permits a State to assume primacy for the regulation of surface coal mining and reclamation operations on non-Federal and non-Indian lands within its borders by demonstrating that its program includes, among other things, “. . . State law which provides for the regulation of surface coal mining and reclamation operations in accordance with the requirements of this Act . . .; and rules and regulations consistent with regulations issued by the Secretary pursuant to this Act.” See 30 U.S.C. 1253(a)(1) and (7). On the basis of these criteria, the Secretary of the Interior conditionally approved the Oklahoma program on January 19, 1981. You can find background information on the Oklahoma program, including the Secretary's findings, the disposition of comments, and the conditions of approval of the Oklahoma program in the January 19, 1981, Federal Register (46 FR 4902). You can also find later actions concerning the Oklahoma program and program amendments at 30 CFR 936.10, 936.15, and 936.16.

II. Description of the Proposed Amendment

By letter dated September 25, 2015 (Administrative Record No. OK-1003), Oklahoma sent us an amendment to its program under SMCRA (30 U.S.C. 1201 et seq.). Oklahoma submitted the proposed amendment on its own initiative. Below is a summary of Oklahoma's proposed changes. The full text of the program amendment is available for you to read at the locations listed above under ADDRESSES or at www.regulations.gov.

Oklahoma proposes to make substantive changes to Title 460. Department of Mines: Chapter 20, The Permanent Regulations Governing the Coal Reclamation Act of 1979, in the following subchapters. Additionally, Oklahoma plans on making several non-substantive changes throughout its regulations regarding updating addresses, correcting reference errors, grammatical corrections, and spelling errors.

1. Subchapter 15. Requirements for Permits and Permit Processing

Oklahoma proposes to revoke section 460:20-15-6.7(a)(2)(A) regarding permits issued before September 30, 2004.

Oklahoma proposes to add new a requirement that suspension or rescission notices be posted at the field office closest to the permit area at 460:20-15-10.1(c)(2)

Oklahoma proposes to clarify the suspension and rescission appeal process at 460:20-15-10.1(d) and (e).

2. Subchapter 29. Underground Mining Permit Applications: Minimum Requirements for Information on Environmental Resources

Oklahoma proposes to add the requirements for GPS coordinates for each building on permit application maps at section 460:20-29-10(4).

Oklahoma proposes to add the permitting requirement to list the depth to mined coal in section 460:20-29-11(a)(5).

3. Subchapter 43. Permanent Program Performance Standards: Surface Mining Standards

Oklahoma proposes to add language regarding minimum topsoil removal distance from the active pit in section 460:20-43-7(a)(1).

Oklahoma proposes to add new language regarding blasting records in section 460:20-43-23.

Oklahoma proposes to add new language regarding annual reporting requirements for contemporaneous reclamation in section 460:20-43-37(2).

Oklahoma proposes to add new language regarding qualification standards for temporary cessation of operations in section 460:20-43-49(a) and (c).

4. Subchapter 45. Permanent Program Performance Standards: Underground Mining Activities

Oklahoma proposes to add language regarding casing and sealing underground openings during temporary cessation of operations in section 460:20-45-5(c).

Oklahoma proposes to add language regarding right of entry information in section 460:20-45-17(b).

5. Subchapter 47. Special Permanent Program Performance Standards: Auger Mining

Oklahoma proposes to add new language regarding surface drainage during auger mining operations in section 460:20-47-4(d).

III. Public Comment Procedures

Under the provisions of 30 CFR 732.17(h), we are seeking your comments on whether the amendment satisfies the applicable program approval criteria of 30 CFR 732.15. If we approve the amendment, it will become part of the State program.

Electronic or Written Comments

If you submit written comments, they should be specific, confined to issues pertinent to the proposed regulations, and explain the reason for any recommended change(s). We appreciate any and all comments, but those most useful and likely to influence decisions on the final regulations will be those that either involve personal experience or include citations to and analyses of SMCRA, its legislative history, its implementing regulations, case law, other pertinent State or Federal laws or regulations, technical literature, or other relevant publications.

We cannot ensure that comments received after the close of the comment period (see DATES) or sent to an address other than those listed (see ADDRESSES) will be included in the docket for this rulemaking and considered.

Public Availability of Comments

Before including your address, phone number, email address, or other personally identifiable information in your comment, you should be aware that your entire comment including your personally identifiable information, may be made publicly available at any time. While you can ask us in your comment to withhold your personally identifiable information from public review, we cannot guarantee that we will be able to do so.

Public Hearing

If you wish to speak at the public hearing, contact the person listed under FOR FURTHER INFORMATION CONTACT by 4:00 p.m., central time on February 23, 2016. If you are disabled and need reasonable accommodations to attend a public hearing, contact the person listed under FOR FURTHER INFORMATION CONTACT. We will arrange the location and time of the hearing with those persons requesting the hearing. If no one requests an opportunity to speak, we will not hold a hearing.

To assist the transcriber and ensure an accurate record, we request, if possible, that each person who speaks at the public hearing provide us with a written copy of his or her comments. The public hearing will continue on the specified date until everyone scheduled to speak has been given an opportunity to be heard. If you are in the audience and have not been scheduled to speak and wish to do so, you will be allowed to speak after those who have been scheduled. We will end the hearing after everyone scheduled to speak and others present in the audience who wish to speak, have been heard.

Public Meeting

If only one person requests an opportunity to speak, we may hold a public meeting rather than a public hearing. If you wish to meet with us to discuss the amendment, please request a meeting by contacting the person listed under FOR FURTHER INFORMATION CONTACT. All such meetings are open to the public and, if possible, we will post notices of meetings at the locations listed under ADDRESSES. We will make a written summary of each meeting a part of the administrative record.

IV. Procedural Determinations

Executive Order 12866—Regulatory Planning and Review

This rule is exempted from review by the Office of Management and Budget (OMB) under Executive Order 12866.

Other Laws and Executive Orders Affecting Rulemaking

When a State submits a program amendment to OSMRE for review, our regulations at 30 CFR 732.17(h) require us to publish a notice in the Federal Register indicating receipt of the proposed amendment, its text or a summary of its terms, and an opportunity for public comment. We conclude our review of the proposed amendment after the close of the public comment period and determine whether the amendment should be approved, approved in part, or not approved. At that time, we will also make the determinations and certifications required by the various laws and executive orders governing the rulemaking process and include them in the final rule.

List of Subjects in 30 CFR Part 936

Intergovernmental relations, Surface mining, Underground mining.

Dated: October 15, 2015.
Ervin J. Barchenger,
Regional Director, Mid-Continent Region.

Note: This document was received by the Office the Federal Register on February 3, 2016.

[FR Doc. 2016-02463 Filed 2-5-16; 8:45 am]

BILLING CODE 4310-05-P